DEPARTMENT OF JUSTICE

Office of Community Oriented Policing Services

FY 2001 Community Policing Discretionary Grants

AGENCY: Office of Community Oriented Policing Services, Department of Justice.

ACTION: Notice of availability.

SUMMARY: The Department of Justice, Office of Community Oriented Policing Services (“COPS”) announces the availability of grants to support the purchase of new technology under COPS Making Officer Redeployment Effective (“COPS MORE 2001”). Eligible applicants under COPS MORE 2001 are those state, local and other public law enforcement agencies, Indian tribal governments, and other public and private entities that employ career law enforcement officers.

DATES: COPS MORE 2001 Application Kits will be available after February 12, 2001. The COPS Office will accept applications for COPS MORE 2001 from February 12, 2001 through April 20, 2001. Applications received postmarked on or before March 23, 2001 and April 6, 2001 will be given priority consideration.

ADDRESSES: COPS MORE 2001 Application Kits may be obtained by writing to COPS MORE 2001, The Department of Justice Response Center, 1100 Vermont Avenue, NW., Washington, DC, 20530, or by calling the Department of Justice Response Center, (202) 307-1480 or 1-800-421-6770, or the full application kit is also available on the COPS Office web site at: http://www.usdoj.gov/cops. Completed application kits should be sent to COPS MORE 2001, 7th Floor, COPS Office, 1100 Vermont Avenue, NW., Washington, DC 20530.

FOR FURTHER INFORMATION CONTACT: The Department of Justice Response Center, (202) 307-1480 or 1-800-421-6770.

SUPPLEMENTARY INFORMATION:

Overview

The Violent Crime Control and Law Enforcement Act of 1994 (Pub. L. 103-322) authorizes the Department of Justice to make grants to increase deployment of law enforcement officers devoted to community policing on the streets and rural routes in this nation. COPS MORE 2001 is designed to expand the time available for community policing by current law enforcement officers, rather than fund the hiring or rehiring of additional law enforcement officers.

COPS MORE 2001 permits eligible agencies to seek funding to purchase equipment and technology. To qualify for funding, technology items must be purchased after the COPS MORE 2001 grant award start date and must increase the number of sworn officers engaged in community policing within the agency's jurisdiction.

As a result of this funding, the number of officers redeployed by agencies in community policing must be equal to or greater than the number of officers that would result from grants of the same amount for hiring new officers. Application Kits will be available after February 12, 2001. Completed Applications Kits must be received by the COPS Office by April 20, 2001. Applications received postmarked on or before March 23, 2001 and April 6, 2001 will be given priority consideration.

Applicants must provide a thorough explanation of how the proposed redeployment funds will actually result in the required increase in the number of officers deployed in community policing. Additionally, the applicant must specify within the COPS MORE 2001 Application a plan for retaining the awarded technology and continuing the increased level of redeployment into community policing with state or local funds following the conclusion of COPS MORE 2001 funding. Technical assistance with the development of community policing plans will be provided to jurisdictions in need of such assistance. Grants will be made for up to 75 percent of the cost of the requested equipment or technology up to $250,000 for jurisdictions with service populations of 50,000 or less, up to $500,000 for jurisdictions with service populations of 50,001 to 150,000 and up to $1,000,000 for jurisdictions with service populations over 150,000 with the remainder to be paid by state or local funds. Waivers of the non-federal share will be considered upon a showing of severe fiscal distress. COPS redeployment funds may not be used to replace funds that eligible agencies otherwise would have devoted to technology acquisition.

An award under COPS MORE 2001 will not affect the eligibility of an agency's application for a grant under any other COPS program.

(The Catalog of Federal Domestic Assistance (CFDA) reference for this program is 16.710.)
Dated: January 22, 2001.
Ralph Justus,
Acting Director.

[FR Doc. 01-2906 Filed 2-2-01; 8:45 am]

BILLING CODE 4410-AT-M